DEPARTMENT OF JUSTICE

Notice of Lodging of Proposed Consent Decree Under the Clean Water Act

On January 30, 2019, the Department of Justice lodged a proposed Consent Decree with the United States District Court for the Western District of Louisiana in the lawsuit entitled United States of America and Louisiana Department of Environmental Quality v. Sunoco Pipeline L.P. and Mid-Valley Pipeline Company, Civil Action No. 5:19-cv-00107.

The Complaint in this Clean Water Act case was filed against Sunoco Pipeline L.P. (Sunoco) and Mid-Valley Pipeline Company (Mid-Valley) concurrently with the lodging of the proposed Consent Decree. The Complaint alleges federal and state claims relating to three crude oil spills: A 2013 spill of 550 barrels in Tyler County, Texas; a 2014 spill of approximately 4,500 barrels in Caddo Parish, near Mooringsport; and a 2015 spill of 40 barrels in Grant County, Oklahoma. The Texas spill affected Russell Creek, which flows to the Neches River. The Louisiana spill—the largest of the three—flowed to Tete Bayou, a tributary of Caddo Lake. The Oklahoma spill flowed into two creeks that flow to the Arkansas River, affecting an area of about a half a mile. All three spills resulted from pipeline corrosion. The Complaint alleges violations of Sections 311(b) and 309(b) of the Clean Water Act (CWA), 33 U.S.C. 1321(b) and 1319(b). In addition, the Louisiana Department of Environmental Quality (LDEQ) alleges violations of La. R.S. 30:2076(A)(1) and (A)(3), LAC 33:IX.501.A, LAC 33:IX.1701.B, Defendants' LPDES General Permit, and Louisiana Administrative Code section LAC 33:I.3925.A.3. The Complaint seeks civil penalties, state response costs, and injunctive relief for three discharges of oil into navigable waters of the United States.

Under the proposed Consent Decree, Sunoco will pay $5 million in civil penalties to the United States and $437,274.20 in civil penalties and response costs to LDEQ. Additionally, Sunoco is required to take actions to prevent future spills by identifying and remediating the types of problems that caused the prior spills. This includes performing pipeline inspections and repairing pipeline defects that could lead to future spills. Sunoco is also required to take steps to prevent and detect corrosion in pipeline segments that Sunoco in no longer using. Mid-Valley, the owner of the pipeline that spilled oil in Louisiana, is responsible, along with Sunoco, for payment of the civil penalties and state response costs relating to the Louisiana spill.

The publication of this notice opens a period for public comment on the proposed Consent Decree. Comments should be addressed to the Assistant Attorney General, Environment and Natural Resources Division, and should refer to United States of America and Louisiana Department of Environmental Quality v. Sunoco Pipeline L.P. and Mid-Valley Pipeline Company, D.J. Ref. No. 90-5-1-1-11673. All comments must be submitted no later than thirty (30) days after the publication date of this notice. Comments may be submitted by either email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $63.50 (25 cents per page reproduction cost) payable to the United States Treasury. For a paper copy without the appendices and signature pages, the cost is $9.75.

Thomas Carroll,
Assistant Section Chief, Environmental Enforcement Section, Environment and Natural Resources Division.

[FR Doc. 2019-01102 Filed 2-4-19; 8:45 am]

BILLING CODE 4410-15-P